DEPARTMENT OF ENERGY

Federal Energy Regulatory Commission

Combined Notice of Filings #1

Take notice that the Commission received the following electric corporate filings:

Docket Numbers: EC16-184-000.

Applicants: WGP Acquisition, LLC, Lea Power Partners, LLC, Waterside Power, LLC, Badger Creek Limited, Chalk Cliff Limited, Double C Generation Limited Partnership, High Sierra Limited, Kern Front Limited, McKittrick Limited, Bear Mountain Limited, Live Oak Limited.

Description: Second Supplement to September 19, 2016 Joint Section 203 Application for WPG Acquisition, LLC, et al.

Filed Date: 10/17/16.

Accession Number: 20161017-5067.

Comments Due: 5 p.m. ET 10/27/16.

Take notice that the Commission received the following exempt wholesale generator filings:

Docket Numbers: EG17-15-000.

Applicants: Bluestem Wind Energy, LLC.

Description: Notice of Self-Certification of Exempt Wholesale Generator Status of Bluestem Wind Energy, LLC.

Filed Date: 10/21/16.

Accession Number: 20161021-5125.

Comments Due: 5 p.m. ET 11/14/16.

Take notice that the Commission received the following electric rate filings:

Docket Numbers: ER10-2302-006.

Applicants: Public Service Company of New Mexico.

Description: Second Supplement to December 29, 2015 Public Service Company of New Mexico submits Triennial Market Power Update.

Filed Date: 10/21/16.

Accession Number: 20161021-5036.

Comments Due: 5 p.m. ET 11/14/16.

Docket Numbers: ER10-2437-009.

Applicants: Arizona Public Service Company.

Description: Notice of Non-Material Change in Status of Arizona Public Service Company.

Filed Date: 10/20/16.

Accession Number: 20161020-5167.

Comments Due: 5 p.m. ET 11/10/16.

Docket Numbers: ER16-2522-001.

Applicants: Southwest Power Pool, Inc.

Description: Tariff Amendment: 3243 City of Piggott, AR NITSA NOA Deferral of Action in ER16-2522 to be effective 12/31/9998.

Filed Date: 10/20/16.

Accession Number: 20161020-5165.

Comments Due: 5 p.m. ET 11/10/16.

Docket Numbers: ER16-2523-001.

Applicants: Southwest Power Pool, Inc.

Description: Tariff Amendment: 3244 Malden—Board of Public Works NITSA NOA Deferral of Action in ER16-2523 to be effective 12/31/9998.

Filed Date: 10/20/16.

Accession Number: 20161020-5164.

Comments Due: 5 p.m. ET 11/10/16.

Docket Numbers: ER17-150-000.

Applicants: San Diego Gas & Electric Company.

Description: § 205(d) Rate Filing: SDGE CSolar LGIA to be effective 10/22/2011.

Filed Date: 10/20/16.

Accession Number: 20161020-5162.

Comments Due: 5 p.m. ET 11/10/16.

Docket Numbers: ER17-151-000.

Applicants: San Diego Gas & Electric Company.

Description: § 205(d) Rate Filing: SDGE Resubmittal of Standard LGIA to be effective 6/28/2010.

Filed Date: 10/20/16.

Accession Number: 20161020-5163.

Comments Due: 5 p.m. ET 11/10/16.

Docket Numbers: ER17-152-000.

Applicants: Northern States Power Company, a Minnesota corporation.

Description: Notice of Cancellation of Interconnection and Interchange Agreement No. 485 of Northern States Power Company, a Minnesota corporation.

Filed Date: 10/20/16.

Accession Number: 20161020-5168.

Comments Due: 5 p.m. ET 11/10/16.

Docket Numbers: ER17-153-000.

Applicants: Midcontinent Independent System Operator, Inc., Michigan Electric Transmission Company, LLC.

Description: § 205(d) Rate Filing: 2016-10-20_SA 2964 METC-City of Marshall Interconnection Facilities Agreement to be effective 10/24/2016.

Filed Date: 10/21/16.

Accession Number: 20161021-5034.

Comments Due: 5 p.m. ET 11/14/16.

Docket Numbers: ER17-154-000.

Applicants: Northern Indiana Public Service Company.

Description: § 205(d) Rate Filing: Contribution in Aid of Construction Agreement to be effective 1/2/2017.

Filed Date: 10/21/16.

Accession Number: 20161021-5067.

Comments Due: 5 p.m. ET 11/14/16.

Docket Numbers: ER17-155-000.

Applicants: GearyEnergy, LLC.

Description: § 205(d) Rate Filing: Geary Energy Succession Filing to be effective 10/15/2016.

Filed Date: 10/21/16.

Accession Number: 20161021-5136.

Comments Due: 5 p.m. ET 11/14/16.

Docket Numbers: ER17-156-000.

Applicants: Midcontinent Independent System Operator, Inc.

Description: § 205(d) Rate Filing: 2016-10-21_Queue Reform Attachment X Filing to be effective 1/4/2017.

Filed Date: 10/21/16.

Accession Number: 20161021-5139.

Comments Due: 5 p.m. ET 11/14/16.

Docket Numbers: ER17-157-000.

Applicants: Moapa Southern Paiute Solar, LLC.

Description: Baseline eTariff Filing: Application for Initial Market-Based Rate Tariff and Granting Certain Waivers to be effective 10/22/2016.

Filed Date: 10/21/16.

Accession Number: 20161021-5146.

Comments Due: 5 p.m. ET 11/14/16.

Take notice that the Commission received the following electric securities filings:

Docket Numbers: ES17-5-000.

Applicants: AEP West Virginia Transmission Company, Inc.

Description: Application under Section 204 of the Federal Power Act for Authorization to Issue Securities of AEP West Virginia Transmission Company, Inc.

Filed Date: 10/21/16.

Accession Number: 20161021-5132.

Comments Due: 5 p.m. ET 11/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2016.
Nathaniel J. Davis, Sr.,
Deputy Secretary.

[FR Doc. 2016-25985 Filed 10-26-16; 8:45 am]

BILLING CODE 6717-01-P